DEPARTMENT OF VETERANS AFFAIRS

Enhanced-Use Lease of Department of Veterans Affairs (VA) Real Property for the Development of a Housing Facility on Approximately 3 Acres of Land in St. Cloud, Minnesota.

AGENCY: Department of Veterans Affairs.

ACTION: Amended Notice of Intent to Enter into an Amended Enhanced-Use Lease (EUL).

SUMMARY: The Secretary of VA intends to amend the scope and terms of an existing EUL that was entered into on December 27, 2011, on approximately 6 acres of land for the purpose of developing 35 units of supportive housing for Veterans. This notice provides updated details on the scope of the amended EUL. The EUL lessee will finance, design, develop, manage, maintain, and operate approximately 37 units of housing on approximately 3 acres of land for eligible homeless Veterans, or Veterans at risk of homelessness, and their families, on a priority placement basis, and provide supportive services that guide resident Veterans toward attaining long-term self-sufficiency.

FOR FURTHER INFORMATION CONTACT: Edward L. Bradley III, Office of Asset Enterprise Management (044), Department of Veterans Affairs, 810 Vermont Avenue NW., Washington, DC 20420, (202) 461-7778.

SUPPLEMENTARY INFORMATION: As required under Section 211(b)(2)(B) of Public Law 112-154, because the EUL was entered into prior to January 1, 2012, this amended EUL will adhere to the prior version of VA's EUL statute as in effect on August 5, 2011.

Signing Authority

The Secretary of Veterans Affairs, or designee, approved this document and authorized the undersigned to sign and submit the document to the Office of the Federal Register for publication electronically as an official document of the Department of Veterans Affairs. Robert A. McDonald, Secretary of Veterans Affairs, approved this document on August 10, 2015 for publication.

Approved: August 10, 2015.
Jeffrey M. Martin,
Program Office Manager, Regulation Policy and Management, Office of General Counsel.

[FR Doc. 2015-20035 Filed 8-12-15; 8:45 am]

BILLING CODE 8320-01-P